DEPARTMENT OF STATE

[Public Notice: 12146]

Notice of Department of State Sanctions Actions

SUMMARY: The Department of State is publishing the names of one or more persons that have been placed on the Department of Treasury's List of Specially Designated Nationals and Blocked Persons (SDN List) administered by the Office of Foreign Asset Control (OFAC) based on the Department of State's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION:

Electronic Availability

The SDN List and additional information concerning sanctions programs are available on OFAC's website, https://ofac.treasury.gov/sanctions-programs-and-country-information/russian-harmful-foreign-activities-sanctions.

Notice of Department of State Actions

On May 19, 2023, the Department of State determined that the property and interests in property subject to U.S. jurisdiction of the following persons are blocked under the relevant sanctions authority listed below.

Vessels

1. PAWELL General Cargo Syria flag; Vessel Registration Identification IMO 8315499 (vessel) [RUSSIA-EO14024] (Linked To: PAWELL SHIPPING CO LLP).

Identified as property in which PAWELL SHIPPING CO LLP, an entity whose property and interests in property are blocked pursuant to E.O. 14024, has an interest.

2. IVAN KIREEV (UCYO) Research Vessel Russia flag; Vessel Registration Identification IMO 7423275 (vessel) [RUSSIA-EO14024] (Linked To: FEDERAL STATE UNITARY ENTERPRISE HYDROGRAPHIC COMPANY).

Identified as property in which FEDERAL STATE UNITARY ENTERPRISE HYDROGRAPHIC COMPANY, an entity whose property and interests in property are blocked pursuant to E.O. 14024, has an interest.

3. ALEKSEY MARYSHEV (UCRD) Research Vessel Russia flag; Vessel Registration Identification IMO 8909329 (vessel) [RUSSIA-EO14024] (Linked To: FEDERAL STATE UNITARY ENTERPRISE HYDROGRAPHIC COMPANY).

Identified as property in which FEDERAL STATE UNITARY ENTERPRISE HYDROGRAPHIC COMPANY, an entity whose property and interests in property are blocked pursuant to E.O. 14024, has an interest.

4. GRIGORIY MIKHEYEV (UCRE) Passenger Russia flag; Vessel Registration Identification IMO 8909331 (vessel) [RUSSIA-EO14024] (Linked To: FEDERAL STATE UNITARY ENTERPRISE HYDROGRAPHIC COMPANY).

Identified as property in which FEDERAL STATE UNITARY ENTERPRISE HYDROGRAPHIC COMPANY, an entity whose property and interests in property are blocked pursuant to E.O. 14024, has an interest.

5. YURI BABAEV (UBPW4) Research Vessel Russia flag; Vessel Registration Identification IMO 9912696 (vessel) [RUSSIA-EO14024] (Linked To: FEDERAL STATE UNITARY ENTERPRISE HYDROGRAPHIC COMPANY).

Identified as property in which FEDERAL STATE UNITARY ENTERPRISE HYDROGRAPHIC COMPANY, an entity whose property and interests in property are blocked pursuant to E.O. 14024, has an interest.

Whitney Baird,
Principal Deputy Assistant Secretary, Bureau of Economic and Business Affairs, Department of State.

[FR Doc. 2023-17649 Filed 8-16-23; 8:45 am]

BILLING CODE 4710-AE-P